DEPARTMENT OF LABOR

Employment and Training Administration

Notice of Affirmative Determination Regarding Application for Reconsideration

[TA-W-81,145], Sunoco, Inc., R&M, Refining Division, 100 Green Street, Marcus Hook, Pennsylvania.

[TA-W-81,145A], Sunoco, Inc., 10 Industrial Hwy, MS4 Building G, Lester, Pennsylvania.

[TA-W-81,145B], Sunoco, Inc., 3144 Passyunk Avenue, Philadelphia, Pennsylvania.

On its own action, the Department of Labor will conduct a review of the negative determination regarding workers' eligibility to apply for Trade Adjustment Assistance (TAA) applicable to workers and former workers of Sunoco, Inc., Refining Division, Marcus Hook, Pennsylvania (TA-W-81,145), Sunoco, Inc., Lester, Pennsylvania (TA-W-81,145A), and Sunoco, Inc., Philadelphia, Pennsylvania (TA-W-81,145B).

Previously-issued determinations did not include the worker group located at 3144 Passyunk Avenue, Philadelphia, Pennsylvania (TA-W-81,145B).

The Department will conduct further investigation to determine if the workers meet the eligibility requirements of the Trade Act of 1974, as amended.

Conclusion

After careful review of the record, I conclude that there is sufficient weight to justify reconsideration of the U.S. Department of Labor's prior decision. The application is, therefore, granted.

Signed at Washington, DC, this 14th day of September 2012.
Del Min Amy Chen,
Certifying Officer, Office of Trade Adjustment Assistance.

[FR Doc. 2012-24058 Filed 9-28-12; 8:45 am]

BILLING CODE 4510-FN-P